ENVIRONMENTAL PROTECTION AGENCY

40 CFR Parts 52 and 81

[EPA-R03-OAR-2015-0050; FRL-9930-56-Region 3]

Approval and Promulgation of Air Quality Implementation Plans; Pennsylvania; Redesignation Request and Associated Maintenance Plan for the Lancaster Nonattainment Area for the 1997 Annual and 2006 24-Hour Fine Particulate Matter Standard

AGENCY: Environmental Protection Agency (EPA).

ACTION: Final rule.

SUMMARY: The Environmental Protection Agency (EPA) is approving the Commonwealth of Pennsylvania's request to redesignate to attainment the Lancaster Nonattainment Area (Lancaster Area or Area) for the 1997 annual and 2006 24-hour fine particulate matter (PM2.5) national ambient air quality standard (NAAQS or standard). EPA has determined that the Lancaster Area attained both the 1997 annual and 2006 24-hour PM2.5 NAAQS. In addition, EPA is approving as a revision to the Pennsylvania State Implementation Plan (SIP) the associated maintenance plan to show maintenance of the 1997 annual and 2006 24-hour PM2.5 NAAQS through 2025 for the Lancaster Area. The maintenance plan includes the 2017 and 2025 PM2.5 and nitrogen oxides (NOX) mobile vehicle emissions budgets (MVEBs) for the Lancaster Area for the 1997 annual and 2006 24-hour PM2.5 NAAQS, which EPA is approving for transportation conformity purposes. Furthermore, EPA is approving the 2007 base year emissions inventory included in the maintenance plan for the Lancaster Area for both NAAQS. These actions are being taken under the Clean Air Act (CAA).

DATES: This final rule is effective on July 16, 2015.

ADDRESSES: EPA has established a docket for this action under Docket ID Number EPA-R03-OAR-2015-0050. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Leslie Jones Doherty at (215) 814-3409, or by email at jones.leslie@epa.gov.

SUPPLEMENTARY INFORMATION:

I. Background

On April 30, 2014, the Commonwealth of Pennsylvania, through the Pennsylvania Department of Environmental Protection (PADEP), formally submitted a request to redesignate the Lancaster Area from nonattainment to attainment for the 1997 annual and 2006 24-hour PM2.5 NAAQS. Concurrently, PADEP submitted a maintenance plan for the Lancaster Area as a SIP revision to ensure continued attainment throughout the Lancaster Area over the next 10 years. The maintenance plan includes the 2017 and 2025 PM2.5 and NOX MVEBs for the Area for the 1997 annual and 2006 24-hour PM2.5 NAAQS, which EPA is approving for transportation conformity purposes. PADEP also submitted a 2007 comprehensive emissions inventory that was included in the maintenance plan for the 1997 annual and 2006 24-hour PM2.5 NAAQS for NOX, sulfur dioxide (SO2), volatile organic compounds (VOC), and ammonia (NH3).

On May 1, 2015 (80 FR 24874), EPA published a notice of proposed rulemaking (NPR) for Pennsylvania. In the NPR, EPA proposed approval of Pennsylvania's April 30, 2014 request to redesignate the Lancaster Area to attainment for the 1997 annual and 2006 24-hour PM2.5 NAAQS. EPA also proposed approval of the associated maintenance plan as a revision to the Pennsylvania SIP for the 1997 annual and 2006 24-hour PM2.5 NAAQS. The maintenance plan included the 2017 and 2025 PM2.5 and NOX MVEBs for both NAAQS which EPA proposed to approve for purposes of transportation conformity. In addition, EPA proposed approval of the 2007 emissions inventory also included in the maintenance plan for the Lancaster Area for both NAAQS to meet the emissions inventory requirement of section 172(c)(3) of the CAA.

The details of Pennsylvania's submittal and the rationale for EPA's proposed actions are explained in the NPR and will not be restated here. No adverse public comments were received on the NPR.

II. Final Actions

EPA is taking final actions on the redesignation request and SIP revisions submitted on April 30, 2014 by the Commonwealth of Pennsylvania for the Lancaster Area for the 1997 annual and 2006 24-hour PM2.5 NAAQS. First, EPA finds that the monitoring data demonstrates that the Area has attained the 1997 annual and 2006 24-hour PM2.5 NAAQS, and continues to attain both NAAQS. Second, EPA is approving Pennsylvania's redesignation request for the 1997 annual and 2006 24-hour PM2.5 NAAQS, because EPA has determined that the request meets the redesignation criteria set forth in section 107(d)(3)(E) of the CAA for both NAAQS. Approval of this redesignation request will change the official designation of the Lancaster Area from nonattainment to attainment for the 1997 annual and 2006 24-hour PM2.5 NAAQS. Third, EPA is approving the associated maintenance plan for the Lancaster Area as a revision to the Pennsylvania SIP for the 1997 annual and 2006 24-hour PM2.5 NAAQS because it meets the requirements of section 175A of the CAA. The maintenance plan includes the 2017 and 2025 PM2.5 and NOX MVEBs submitted by Pennsylvania for the Lancaster Area for transportation conformity purposes. In addition, EPA is approving the 2007 emissions inventory for the Lancaster Area as meeting the requirement of section 172(c)(3) of the CAA for both NAAQS.

In accordance with 5 U.S.C. 553(d), EPA finds there is good cause for this rulemaking action to become effective immediately upon publication. A delayed effective date is unnecessary due to the nature of a redesignation to attainment, which eliminates CAA obligations that would otherwise apply. The immediate effective date for this rulemaking action is authorized under both 5 U.S.C. 553(d)(1), which provides that rulemaking actions may become effective less than 30 days after publication if the rule “grants or recognizes an exemption or relieves a restriction,” and section 553(d)(3), which allows an effective date less than 30 days after publication “as otherwise provided by the agency for good cause found and published with the rule.” The purpose of the 30-day waiting period prescribed in section 553(d) is to give affected parties a reasonable time to adjust their behavior and prepare before the final rule takes effect. This rulemaking action, however, does not create any new regulatory requirements such that affected parties would need time to prepare before the rule takes effect. Rather, this rulemaking action relieves the Commonwealth of Pennsylvania of the obligation to comply with nonattainment-related planning requirements for the Lancaster Area pursuant to part D of the CAA and approves certain emissions inventories and MVEBs for the Lancaster Area. For these reasons, EPA finds good cause under 5 U.S.C. 553(d) for this rulemaking action to become effective on the date of publication.

III. Statutory and Executive Order Reviews

A. General Requirements

Under the CAA, redesignation of an area to attainment and the accompanying approval of the maintenance plan under CAA section 107(d)(3)(E) are actions that affect the status of a geographical area and do not impose any additional regulatory requirements on sources beyond those required by state law. A redesignation to attainment does not in and of itself impose any new requirements, but rather results in the application of requirements contained in the CAA for areas that have been redesignated to attainment. Moreover, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by September 14, 2015. Filing a petition for reconsideration by the Administrator of this final rule does not affect the finality of this action for the purposes of judicial review nor does it extend the time within which a petition for judicial review may be filed, and shall not postpone the effectiveness of such rule or action.

This action, approving the redesignation request and maintenance plan for the Lancaster Area for the 1997 annual and 2006 24-hour PM2.5 NAAQS and the comprehensive emissions inventory for the Lancaster Area for both NAAQS, may not be challenged later in proceedings to enforce its requirements. See section 307(b)(2).

List of Subjects

40 CFR Part 52

Environmental protection, Air pollution control, Incorporation by reference, Nitrogen oxides, Particulate matter, Reporting and recordkeeping requirements, Sulfur dioxide, Volatile organic compounds.

40 CFR Part 81

Air pollution control, National parks, Wilderness areas.

Dated: July 1, 2015.
William C. Early,
Acting, Regional Administrator, Region III.

40 CFR parts 52 and 81 are amended as follows:

PART 52—APPROVAL AND PROMULGATION OF IMPLEMENTATION PLANS

1. The authority citation for part 52 continues to read as follows:

Authority: 42 U.S.C. 7401 et seq.

Subpart NN—Pennsylvania

2. In § 52.2020, the table in paragraph (e)(1) is amended by adding an entry for “1997 Annual and 2006 24-Hour PM2.5 Maintenance Plan and 2007 Base Year Emissions Inventory” at the end of the table to read as follows:

§ 52.2020 Identification of plan.

* * * * *

(e) * * *

(1) * * *

Name of non-regulatory SIP revision | Applicable geographic area | State submittal date | EPA Approval date | Additional explanation
* * * * * * *
1997 Annual and 2006 24-Hour PM2.5 Maintenance Plan and 2007 Base Year Emissions Inventory | Lancaster Area | 4/30/14 | 7/16/15 [Insert Federal Register citation] | See § 52.2036(x) and § 52.2059(s)

* * * * *

3. Section 52.2036 is amended by adding paragraph (x) to read as follows:

§ 52.2036 Base year emissions inventory.

* * * * *

(x) EPA approves as a revision to the Pennsylvania State Implementation Plan the 2007 base year emissions inventory for the Lancaster 1997 annual and 2006 24-hour fine particulate matter (PM2.5) nonattainment area submitted by the Pennsylvania Department of Environmental Protection on April 30, 2014. The emissions inventory includes emissions estimates that cover the general source categories of point, area, nonroad, and onroad sources. The pollutants that comprise the inventory are PM2.5, nitrogen oxides (NOX), volatile organic compounds (VOCs), ammonia (NH3), and sulfur dioxide (SO2).

4. Section 52.2059 is amended by adding paragraph (s) to read as follows:

§ 52.2059 Control strategy: Particular matter.

* * * * *

(s) EPA approves the maintenance plan for the Lancaster nonattainment area for the 1997 annual and 2006 24-hour fine particulate matter (PM2.5) NAAQS submitted by the Commonwealth of Pennsylvania on April 30, 2014. The maintenance plan includes the 2017 and 2025 PM2.5 and nitrogen oxides (NOX) mobile vehicle emissions budgets (MVEBs) to be applied to all future transportation conformity determinations and analyses for the Lancaster nonattainment area for the 1997 annual and 2006 24-hour PM2.5 NAAQS.

Lancaster Area's Motor Vehicle Emission Budgets for the 1997 Annual and 2006 24-Hour PM2.5 NAAQS for Lancaster County in Tons per Year
Type of control strategy SIP | Year | PM2.5 | NOX | Effective date of SIP approval
Maintenance Plan | 2017 | 249 | 6,916 | July 16, 2015.
| 2025 | 185 | 4,447 | July 16, 2015.

PART 81—DESIGNATION OF AREAS FOR AIR QUALITY PLANNING PURPOSES

5. The authority citation for part 81 continues to read as follows:

Authority: 42 U.S.C. 7401, et seq.

6. In § 81.339, in the tables entitled “Pennsylvania—1997 Annual PM2.5 NAAQS” and “Pennsylvania—2006 24-Hour PM2.5 NAAQS” revise the entry for “Lancaster, PA” to read as follows:

§ 81.339 Pennsylvania.

* * * * *

Pennsylvania—1997 Annual PM2.5 NAAQS
[Primary and secondary]
Designated area | Designation: Date ¹ | Designation: Type | Classification: Date ² | Classification: Type
* * * * * * *
Lancaster, PA:
Lancaster County | July 16, 2015 | Attainment |  |
* * * * * * *
¹ This date is 90 days after January 5, 2005, unless otherwise noted.
² This date is July 2, 2014, unless otherwise noted.

* * * * *

Pennsylvania—2006 24-Hour PM2.5 NAAQS
[Primary and secondary]
Designated area | Designation: Date ¹ | Designation: Type | Classification: Date ² | Classification: Type
* * * * * * *
Lancaster, PA:
Lancaster County | July 16, 2015 | Attainment |  |
* * * * * * *
¹ This date is 30 days after November 13, 2009, unless otherwise noted.
² This date is July 2, 2014, unless otherwise noted.

* * * * *

[FR Doc. 2015-17471 Filed 7-15-15; 8:45 am]

BILLING CODE 6560-50-P